DEPARTMENT OF COMMERCE

National Institute of Standards and Technology

Manufacturing Extension Partnership National Advisory Board

AGENCY: National Institute of Standards and Technology, Department of Commerce.

ACTION: Notice of public meeting.

SUMMARY: Pursuant to the Federal Advisory Committee Act, 5 U.S.C. app. 2, notice is hereby given that the Manufacturing Extension Partnership National Advisory Board (MEPNAB), National Institute of Standards and Technology (NIST), will meet Thursday, January 30, 2003, from 8 a.m. to 3:30 p.m. The MEPNAB is composed of nine members appointed by the Director of NIST who were selected for their expertise in the area of industrial extension and their work on behalf of smaller manufacturers. The Board was established to fill a need for outside input on MEP. MEP is a unique program with over 60 centers across the country serving America's 360,000 small manufacturers. The centers are true federal state partnerships using federal, state and local funds to provide services. The Board works closely with MEP to provide input and advice on MEP's programs, plans, and policies. The purpose of this meeting is to update the board on the latest program developments at MEP and for the Board to discuss future strategic direction of the program and its current plans. The agenda will include a briefing on the state and health of the system under the current state of the budget while under a continuing resolution, a report on the National Brand Meeting in December 2002 and the status across the system and a new direction at MEP to set up a Research team to delve into the area of the importance of manufacturing in the U.S. economy. All visitors to the National Institute of Standards and Technology site will have to pre-register to be admitted. Anyone wishing to attend this meeting must register 48 hours in advance in order to be admitted. Please submit your name, time of arrival, email address and phone number to Carolyn Peters no later than Monday, January 27, and she will provide you with instructions for admittance. Mrs. Peter's email address is carolyn.peters@nist.gov and her phone number is 301/975-5607.

DATES: The meeting will convene January 30, 2003 at 8 a.m. and will adjourn at 3:30 p.m. on January 30, 2003.

ADDRESSES: The meeting will be held in the Employee's Lounge, Administration Building, at NIST, Gaithersburg, Maryland 20899. Please note admittance instructions under SUMMARY paragraph.

FOR FURTHER INFORMATION CONTACT: Linda Acierto, Senior Policy Advisor, Manufacturing Extension Partnership, National Institute of Standards and Technology, Gaithersburg, Maryland 20899-4800, telephone number (301) 975-5033.

Dated: January 8, 2003.
Karen H. Brown,
Deputy Director.

[FR Doc. 03-775 Filed 1-14-03; 8:45 am]

BILLING CODE 3510-13-P